DEPARTMENT OF TRANSPORTATION

Federal Aviation Administration

14 CFR Part 39

[Docket No. FAA-2007-0285; Directorate Identifier 2007-SW-15-AD; Amendment 39-15296; AD 2007-25-14]

RIN 2120-AA64

Airworthiness Directives; Agusta S.p.A. Model AB139 and AW139 Helicopters

AGENCY: Federal Aviation Administration (FAA), Department of Transportation (DOT).

ACTION: Final rule; request for comments.

SUMMARY: We are superseding an existing airworthiness directive (AD) for Agusta S.p.A. (Agusta) Model AB139 helicopters. This AD results from mandatory continuing airworthiness information (MCAI) originated by an aviation authority to identify and correct an unsafe condition on an aviation product. The aviation authority of Italy, with which we have a bilateral agreement, states in the MCAI:

Field reports have shown that the Agusta AB/AW139's Tailpipe Assembly is prone to cracks. To prevent any cracks from developing into failure of the exhaust tailpipe assembly * * *

This AD retains the requirements of the existing AD, but expands the applicability to include the Agusta Model AW139 helicopters and includes modification procedures to strengthen certain cracked areas that are outside the cowling and are within certain allowable limits. This AD requires actions that are intended to address the unsafe condition of cracks in the tailpipe assembly.

DATES: This AD becomes effective December 26, 2007.

The Director of the Federal Register approved the incorporation by reference of Agusta Bollettino Tecnico No. 139-069, Revision A, dated November 8, 2006, as of December 26, 2007.

We must receive comments on this AD by February 8, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Ed Cuevas, Aerospace Engineer, Safety Management Office, FAA, Rotorcraft Directorate, Fort Worth, Texas 76193-0111, telephone (817) 222-5355, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

On August 24, 2006, we issued AD 2006-17-51, Amendment 39-14747 (71 FR 51988, September 1, 2006). That AD required actions intended to address cracks in the exhaust tailpipes of Agusta Model AB139 helicopters.

Since we issued AD 2006-17-51, the applicability has been expanded to include the Agusta Model AW139 helicopters. In addition, modification procedures have been introduced to strengthen certain cracked areas that are outside the cowling and are within certain allowable limits.

The European Aviation Safety Agency (EASA), which is the Technical Agent for the Member States of the European Community, has issued an MCAI in the form of EASA AD No: 2006-0360-E, dated November 29, 2006, to correct an unsafe condition for these Italian-certificated products. The MCAI states:

Field reports have shown that the Agusta AB/AW139's Tailpipe Assembly is prone to cracks. To prevent any cracks from developing into failure of the exhaust tailpipe assembly * * *

You may obtain further information by examining the MCAI in the AD docket.

Relevant Service Information

Agusta has issued Bollettino Tecnico No. 139-069, Revision A, dated November 8, 2006. The actions described in the MCAI are intended to correct the same unsafe condition as that identified in the service information.

FAA's Determination and Requirements of This AD

This product has been approved by the aviation authority of Italy, and is approved for operation in the United States. Pursuant to our bilateral agreement with this State of Design Authority, we have been notified of the unsafe condition described in the MCAI and the service information. We are issuing this AD because we evaluated all pertinent information and determined the unsafe condition exists and is likely to exist or develop on other products of these same type designs.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in the “Differences Between the FAA AD and the MCAI” section in the AD.

FAA's Determination of the Effective Date

An unsafe condition exists that requires the immediate adoption of this AD. The FAA has found that the risk to the flying public justifies waiving notice and comment prior to adoption of this rule because the superseded AD was an Emergency AD, and because this AD continues the inspection requirements and adds the Model AW139 helicopters to the applicability as well as introduces repair procedures for certain cracks located outside the cowling that are within certain allowable limits established by Agusta Bollettino Tecnico No. 139-069, Rev. A, dated November 8, 2006. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-0285; Directorate Identifier 2007-SW-15-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect about 21 helicopters of U.S. registry. We also estimate that it will take about 1 work-hour to inspect a helicopter and 3 work-hours per helicopter to either repair or replace an exhaust tailpipe assembly. The average labor rate is $80 per work-hour. A replacement exhaust tailpipe assembly costs about $20,649 per helicopter. The repair does not require purchasing any parts other than consumable materials. In addition, we have assumed that 5 of the affected helicopters will require replacement of an exhaust tailpipe assembly. Based on these assumptions and figures, we estimate the cost of this AD on U.S. operators to be $106,125, or $1,680 per helicopter for the inspection and $20,889 in additional costs for the 5 helicopters requiring replacement of the exhaust tailpipe assembly.

Authority for This Rulemaking

Title 49 of the United States Code specifies the FAA's authority to issue rules on aviation safety. Subtitle I, section 106, describes the authority of the FAA Administrator.

“Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14747 (71 FR 51988, September 1, 2006) and adding the following new AD:

2007-25-14 Agusta S.p.A: Amendment 39-15296. Docket No. FAA-2007-0285; Directorate Identifier 2007-SW-15-AD.

Effective Date

(a) This airworthiness directive (AD) becomes effective on December 26, 2007.

Other Affected ADs

(b) This AD supersedes AD 2006-17-51, Amendment 39-14747, Docket No. FAA-2006-25703, Directorate Identifier 2006-SW-20-AD.

Applicability

(c) This AD applies to Model AB139 and AW139 helicopters, all serial numbers, except 31002, 31003, 31004 and 31007, with tailpipe assemblies, part number (P/N) 3G7800L00131 (LH) or 3G7800L00231 (RH), certificated in any category.

Reason

(d) The mandatory continued airworthiness information (MCAI) states:

Field reports have shown that the Agusta AB/AW139's Tailpipe Assembly is prone to cracks. To prevent any cracks from developing into failure of the exhaust tailpipe assembly * * *

Actions and Compliance

Continuing Requirements

(e) Before further flight, and thereafter at intervals not to exceed 25 hours time-in-service (TIS), access the rear areas of each tailpipe assembly by removing the rear cowlings.

(1) Visually inspect each tailpipe assembly inside the cowling for a crack. If you find a crack, before further flight, replace the cracked tailpipe assembly with an airworthy tailpipe assembly.

(2) Visually inspect the structure surrounding each tailpipe assembly for overheating. If you find areas of overheating in the structure surrounding each tailpipe assembly, inspect for overheating in the underlying structure including on the upper deck thermal protection. Repair any damaged areas before further flight.

(3) Visually inspect at the internal part of the tailpipe assembly exhaust outside the cowling as depicted by Area A, Figure 1, of Agusta Bollettino Tecnico No. 139-069, Revision A, dated November 8, 2006 (ABT).

(i) Clean the end of each tailpipe assembly with a cloth. While applying slight pressure on it, inspect for a crack using a flashlight.

(ii) Inspect each tailpipe assembly toward the centerline of the helicopter for a crack using a flashlight.

(iii) Inspect each tailpipe assembly toward the outboard side of the helicopter for a crack using a mirror and a flashlight.

New Requirements

(f) If you find a crack in the exhaust area outside the cowling, do the following:

(1) If any crack turns off abruptly (at an angle of greater than 45°) from the original direction, before further flight, replace that tailpipe assembly with an airworthy tailpipe assembly.

(2) If you find only one crack in a tailpipe assembly and the crack does not make an abrupt turn and is 50mm or less in length—

(i) Stop-drill the crack with a No. 30 drill bit, or

(ii) Repair that tailpipe assembly in accordance with the Compliance Instructions, paragraph 7) d), of the ABT.

(iii) If you choose to stop-drill the crack as indicated in paragraph (f)(2)(i) of this AD, thereafter, before the first flight of each day, inspect the stop-drill hole to determine whether another crack has started at the stop-drill hole. If you find during any inspection that another crack has started, before further flight, replace that tailpipe assembly with an airworthy tailpipe assembly.

(3) If you find more than one crack and no crack makes an abrupt turn as stated in paragraph (f)(1) of this AD and the cracks are within the allowable limits stated in the Compliance Instructions, paragraph 7) d), of the ABT, repair the tailpipe assembly in accordance with the Compliance Instructions, paragraph 7) d) of the ABT.

(g) Repairing or replacing the affected tailpipe assembly does not constitute terminating action for the repetitive inspection as required by paragraph (e) of this AD.

Differences Between the FAA AD and the MCAI

(h) None.

Subject

(i) Air Transport Association of America (ATA) Code 7810—Engine Collector/Tailpipe/Nozzle.

Other Information

(j) The following provisions also apply to this AD:

(1) Alternative Methods of Compliance (AMOCs): The Manager, Safety and Management Group, FAA, has the authority to approve AMOCs for this AD, if requested using the procedures found in 14 CFR 39.19. Send information to ATTN: Ed Cuevas, Aerospace Engineer, Safety Management Group, FAA, Rotorcraft Directorate, Fort Worth, Texas 76193-0111, telephone (817) 222-5355, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(k) Mandatory Continuing Airworthiness Information (MCAI) (EASA) Airworthiness Directive No. 2006-0360-E, dated November 29, 2006; Agusta Bollettino Tecnico No. 139-069, Rev. A, dated November 8, 2006; and Aircraft Maintenance Publication (AMP) AB139 and AW139 contain related information.

Material Incorporated by Reference

(l) The Director of the Federal Register approved the incorporation by reference of Agusta Bollettino Tecnico No. 139-069, Rev. A, dated November 8, 2006, under 5 U.S.C. 552(a) and 1 CFR part 51.

(m) For service information identified in this AD, contact Via Giovanni Agusta, 520, 21017 Cascina Costa diSamarate (VA), Italy, telephone +39 0331-229111, fax +39 0331-229605/222595.

(n) You may review copies of Agusta Bollettino Tecnico No. 139-069, Rev. A, dated November 8, 2006, at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas on November 27, 2007.
Mark R. Schilling,
Acting Manager, Rotorcraft Directorate, Aircraft Certification Service.

[FR Doc. E7-23637 Filed 12-7-07; 8:45 am]

BILLING CODE 4910-13-P